DEPARTMENT OF HEALTH AND HUMAN SERVICES

National Institutes of Health

Office of the Director, National Institutes of Health Notice of Meeting

Pursuant to section 10(a) of the Federal Advisory Committee Act, as amended (5 U.S.C. App.), notice is hereby given of a meeting of the Advisory Committee on Research on Women's Health.

The meeting will be open to the public, with attendance limited to space available. Individuals who plan to attend and need special assistance, such as sign language interpretation or other reasonable accommodations, should notify the Contact Person listed below in advance of the meeting.

Name of Committee: Advisory Committee on Research on Women's Health.

Date: October 20, 2015.

Open: 9:00 a.m. to 12:00 p.m.

Agenda: The Committee serves to advise and make recommendations to the Director, Office of Research on Women's Health (ORWH) on a broad range of topics.

Place: National Institutes of Health, Wilson Hall, Building 1, 1 Center Drive, Bethesda, MD 20892.

Open: 1:00 p.m. to 5:00 p.m.

Agenda: ORWH 25th Anniversary Celebration of Science.

Place: National Institutes of Health, Wilson Hall, Building 1, 1 Center Drive, Bethesda, MD 20892.

Contact Person: Terri L. Cornelison, MD, Ph.D., Executive Secretary, Office of Research on Women's Health, Office of the Director, National Institutes of Health, 6707 Democracy Blvd., Bethesda, MD 20817, (301) 402-1770, terri.conelison@nih.gov.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Institute's/Center's home page: www4.od.nih.gov/orwh/, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: September 14, 2014.
Carolyn Baum,
Program Analyst, Office of Federal Advisory Committee Police.

[FR Doc. 2015-23385 Filed 9-17-15; 8:45 am]

BILLING CODE 4140-01-P